DEPARTMENT OF ENERGY

Federal Energy Regulatory Commission

Combined Notice of Filings #1

August 29, 2006.

Take notice that the Commission received the following exempt wholesale generator filings:

Docket Numbers: EG06-75-000.

Applicants: Allegheny Ridge Wind Farm, LLC.

Description: Allegheny Ridge Wind Farm, LLC submits a notice of Self Certification for Exempt Wholesale Generator Status.

Filed Date: 08/24/2006.

Accession Number: 20060824-5113.

Comment Date: 5 p.m. Eastern Time on Thursday, September 14, 2006.

Take notice that the Commission received the following electric rate filings:

Docket Numbers: ER97-2801-013.

Applicants: PacifiCorp.

Description: PacifiCorp submits Rodney Frame's workpapers to support the analyses in its 8/21/06 filing of an updated market power analysis and on 8/24/06 submits an errata to this filing.

Filed Date: 08/23/2006; 08/24/06.

Accession Number: 20060828-0034; 20060828-0040.

Comment Date: 5 p.m. Eastern Time on Wednesday, September 13, 2006.

Docket Numbers: ER99-3420-007.

Applicants: Sunbury Generation, LLC.

Description: Sunbury Generation, LP submits a notice of change in status pursuant to the Commission's regulations and condition no. 6 of the Commission's order issued 7/20/06.

Filed Date: 08/24/2006.

Accession Number: 20060828-0019.

Comment Date: 5 p.m. Eastern Time on Thursday, September 14, 2006.

*Docket Numbers: ER03-552-011.

Applicants: New York Independent System Operator, Inc.

Description: Strategic Energy, LLC responds to New York Independent System Operator, Inc's quarterly status report submitted on 7/17/06 under ER03-552 et al.

Filed Date: 08/25/2006.

Accession Number: 20060828-0036.

Comment Date: 5 p.m. Eastern Time on Friday, September 15, 2006.

Docket Numbers: ER03-563-061; EL04-102-016.

Applicants: ISO New England Inc.

Description: ISO New England Inc submits its ninth compliance report pursuant to the Commission's 6/2/06 order.

Filed Date: 08/24/2006.

Accession Number: 20060824-5052.

Comment Date: 5 p.m. Eastern Time on Thursday, September 14, 2006.

Docket Numbers: ER05-764-003.

Applicants: Montana Alberta Tie Ltd.

Description: Montana Alberta Tie Ltd submits a Report on the June 2006 Capacity Auction pursuant to FERC's 7/5/05 Order.

Filed Date: 08/24/2006.

Accession Number: 20060828-0026.

Comment Date: 5 p.m. Eastern Time on Thursday, September 14, 2006.

Docket Numbers: ER06-1185-001.

Applicants: Pace Global Asset Management, LLC

Description: Pace Global Asset Management, LLC submits an amendment to its 6/29/06 Submission of its Energy Management Agreement.

Filed Date: 08/23/2006.

Accession Number: 20060825-0069.

Comment Date: 5 p.m. Eastern Time on Wednesday, September 13, 2006.

*Docket Numbers: ER06-1221-002.

Applicants: Parkview AMC Energy, LLC.

Description: Parkview AMC Energy, LLC submits FERC Electric Tariff, Original Volume 1, to become effective as of 7/5/06 under ER06-1221.

Filed Date: 08/16/2006.

Accession Number: 20060818-0123.

Comment Date: 5 p.m. Eastern Time on Wednesday, September 6, 2006.

Docket Numbers: ER06-1392-000.

Applicants: FPL Energy Oliver Wind, LLC.

Description: FPL Energy Oliver Wind, LLC submits an application for authorization to make market-based sales of energy and capacity at market-based rates, to be effective 10/22/06.

Filed Date: 08/23/2006.

Accession Number: 20060825-0011.

Comment Date: 5 p.m. Eastern Time on Wednesday, September 13, 2006.

Docket Numbers: ER06-1395-000.

Applicants: California Independent System Operator Corporation.

Description: California Independent System Operator Corp submits an amendment to the CAISO Tariff regarding the Low Voltage Transmission Revenue Requirement for non-load serving participating transmission owners.

Filed Date: 08/24/2006.

Accession Number: 20060825-0073.

Comment Date: 5 p.m. Eastern Time on Thursday, September 14, 2006.

Docket Numbers: ER06-1396-000.

Applicants: PJM Interconnection, LLC.

Description: PJM Interconnection, LLC submits an executed interim interconnection service agreement with FirstEnergy Nuclear Operating Co et al.

Filed Date: 08/24/2006.

Accession Number: 20060825-0072.

Comment Date: 5 p.m. Eastern Time on Thursday, September 14, 2006.

Docket Numbers: ER06-1397-000.

Applicants: Allegheny Ridge Wind Farm, LLC.

Description: Allegheny Ridge Wind Farm, LLC submits a petition for market-based rate authority under FERC Electric Tariff, Original Volume 1.

Filed Date: 08/24/2006.

Accession Number: 20060825-0071.

Comment Date: 5 p.m. Eastern Time on Thursday, September 14, 2006.

Docket Numbers: ER06-1398-000.

Applicants: Duke Power Company LLC.

Description: Duke Power Company LLC submits four new Network Integration Service Agreements for Network Integration Transmission Service pursuant to section 205 of the Federal Power Act.

Filed Date: 08/24/2006.

Accession Number: 20060825-0079.

Comment Date: 5 p.m. Eastern Time on Thursday, September 14, 2006.

Docket Numbers: ER06-1399-000.

Applicants: Sunbury Generation LP.

Description: Sunbury Generation LP submits a notice of succession pursuant to Condition #6 to Order issued 7/20/06.

Filed Date: 08/24/2006.

Accession Number: 20060825-0070.

Comment Date: 5 p.m. Eastern Time on Thursday, September 14, 2006.

Docket Numbers: ER06-1400-000.

Applicants: Central Hudson Gas & Electric Corporation.

Description: Central Hudson Gas & Electric Corp submits a Notice of Cancellation of Rate Schedule FERC 32, Transmission Agreement with Orange and Rockland Utilities, Inc.

Filed Date: 08/24/2006.

Accession Number: 20060828-0020.

Comment Date: 5 p.m. Eastern Time on Thursday, September 14, 2006.

Docket Numbers: ER06-1401-000.

Applicants: PJM Interconnection, L.L.C.

Description: PJM Interconnection, LLC submits an executed interim interconnection service agreement with Allegheny Ridge Wind Farm, LLC and Pennsylvania Electric Co.

Filed Date: 08/24/2006.

Accession Number: 20060828-0023.

Comment Date: 5 p.m. Eastern Time on Thursday, September 14, 2006.

Docket Numbers: ER06-1402-000.

Applicants: Westmoreland Partners (ROVA I).

Description: Westmoreland Partners submits a Notice of Succession to notify the Commission that as a result of a name change Westmoreland Partners has succeeded to the market-based rate schedule of Westmoreland-LG&E Partners.

Filed Date: 08/24/2006.

Accession Number: 20060828-0025.

Comment Date: 5 p.m. Eastern Time on Thursday, September 14, 2006.

Docket Numbers: ER06-1403-000.

Applicants: Westmoreland Partners (ROVA II).

Description: Westmoreland Partners submits a notice of succession to notify FERC that as a result of a name change it has succeeded to the market-based rate schedule of Westmoreland-LG&E Partners.

Filed Date: 08/24/2006.

Accession Number: 20060828-0024.

Comment Date: 5 p.m. Eastern Time on Thursday, September 14, 2006.

Docket Numbers: ER06-1404-000.

Applicants: Devon Power LLC.

Description: Devon Power, LLC submits revisions to section 3.2 of its RMR Agreement, Tariff Sheet Nos. 9, 9A and 27 to Electric Tariff Original Volume No. 3.

Filed Date: 08/24/2006.

Accession Number: 20060828-0028.

Comment Date: 5 p.m. Eastern Time on Thursday, September 14, 2006.

Docket Numbers: ER06-1405-000.

Applicants: Bangor Hydro-Electric Company.

Description: Bangor Hydro-Electric Co submits a Construction Commitment Agreement with New Brunswick Power Transmission Corp to proceed with the construction of a 345kV transmission line from Point Lepreau, New Brunswick to Orrington, ME.

Filed Date: 08/25/2006.

Accession Number: 20060828-0027.

Comment Date: 5 p.m. Eastern Time on Friday, September 15, 2006.

Docket Numbers: ER06-1406-000.

Applicants: Southern California Edison Company.

Description: Southern California Edison Co submits a Small Generator Interconnection Agreement and a Service Agreement for Wholesale Distribution Service with MM Lopez Energy, LLC.

Filed Date: 08/25/2006.

Accession Number: 20060828-0030.

Comment Date: 5 p.m. Eastern Time on Friday, September 15, 2006.

Take notice that the Commission received the following electric securities filings:

Docket Numbers: ES06-61-000.

Applicants: Aquila, Inc.

Description: Aquila Inc. submits an application for authorization under Section 204(a) of the Federal Power Act for Authorization to Issue Up to and Including 9,000,000 Shares of Common Stock.

Filed Date: 08/23/2006.

Accession Number: 20060825-0075.

Comment Date: 5 p.m. Eastern Time on Wednesday, September 13, 2006.

Docket Numbers: ES06-62-000.

Applicants: Alloy Power L.L.C.

Description: Alloy Power L.L.C. submits an application for authorization to issue securities up to $65 million of secured, short-term, debt securities pursuant to section 204 of the FPA.

Filed Date: 08/25/2006.

Accession Number: 20060825-5096.

Comment Date: 5 p.m. Eastern Time on Friday, September 15, 2006.

Take notice that the Commission received the following public utility holding company filings:

Docket Numbers: PH06-106-000.

Applicants: Edison International.

Description: Edison International submits a waiver notification of status as a single-state holding company system.

Filed Date: 08/25/2006.

Accession Number: 20060825-5072.

Comment Date: 5 p.m. Eastern Time on Friday, September 15, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-15137 Filed 9-12-06; 8:45 am]

BILLING CODE 6717-01-P